NUCLEAR REGULATORY COMMISSION

[NRC-2015-0195]

Inservice Inspection of Ungrouted Tendons in Prestressed Concrete Containments

AGENCY: Nuclear Regulatory Commission.

ACTION: Regulatory guide; withdrawal.

SUMMARY: The U.S. Nuclear Regulatory Commission (NRC) is withdrawing Regulatory Guide (RG) 1.35, “Inservice Inspection of Ungrouted Tendons in Prestressed Concrete Containments.” The regulatory guide is being withdrawn because of changes in NRC regulations, which render the RG obsolete. The withdrawal does not affect the licensing bases of current licensees approved to use RG 1.35.

ADDRESSES: Please refer to Docket ID NRC-2015-0195 when contacting the NRC about the availability of information regarding this document. You may obtain publicly-available information related to this document using any of the following methods:

• Federal Rulemaking Web site: Go to http://www.regulations.gov and search for Docket ID NRC-2015-0195. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly available documents online in the ADAMS Public Documents Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this Notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Thomas Herrity, telephone: 301-415-2351, email: Thomas.Herrity@nrc.gov and Edward O'Donnell, telephone: 301-415-3317, email: Edward.ODonnell@nrc.gov. Both are staff of the Office of Nuclear Regulatory Research, U.S. Nuclear Regulatory Commission, Washington, DC 20555-0001.

SUPPLEMENTARY INFORMATION: The NRC is withdrawing Regulatory Guide 1.35 because it has been superseded by changes in NRC regulations as set forth in section 50.55a of Title 10 of the Code of Federal Regulations (10 CFR), “Codes and Standards.” The change in the regulations provides more complete and more up to date guidance.

The withdrawal of RG 1.35 does not alter any prior or existing licensing commitments based on its use. Although a regulatory guide is withdrawn, its use in existing licenses is still valid, and changes to the licenses can be accomplished using other regulatory products. Withdrawal of a regulatory guide means that the RG no longer provides useful information or has been superseded by other guidance, technological innovations, congressional actions, or other events. A withdrawn RG should not be used for future NRC licensing activities.

Since RG 1.35 was last revised in 1990, ASME Boiler and Pressure Vessel Code Section XI, Subsection IWL was issued. This subsection addresses the examination and repair/replacement of the reinforced concrete and the post-tensioning systems of concrete containments. The NRC incorporated the requirements of the 1992 Edition of the ASME Boiler and Pressure Vessel Code with the 1992 Addenda of Subsection IWL into its regulations, with specified modifications and limitations, in an amendment to section 50.55a, which was published in the Federal Register on August 8, 1996 (61 FR 41303). The rulemaking also required that all nuclear power plants in the United States develop and implement a containment inspection program in accordance with Section XI, Subsection IWL (as applicable for the type of containment) by September 9, 2001. Subsequent, NRC amendments to 10 CFR 50.55a have incorporated by reference later editions of Subsection IWL, with modifications and limitations which continue to address issues addressed by RG 1.35.

The guidance provided in RG 1.35 has been incorporated into later revisions of Subsection IWL, or preserved in 10 CFR 50.55a. As a result, RG 1.35 has become redundant and is no longer needed.

Dated at Rockville, Maryland, this 21st day of August, 2015.
For the Nuclear Regulatory Commission.
Thomas H. Boyce,
Chief, Regulatory Guidance and Generic Issues Branch, Division of Engineering, Office of Nuclear Regulatory Research.

[FR Doc. 2015-21156 Filed 8-26-15; 8:45 am]

BILLING CODE 7590-01-P